DEPARTMENT OF COMMERCE

National Oceanic and Atmospheric Administration

RIN 0648-BC22

Fisheries of the Caribbean, Gulf of Mexico, South Atlantic; Comprehensive Amendment

AGENCY: National Marine Fisheries Service (NMFS), National Oceanic and Atmospheric Administration (NOAA), Department of Commerce.

ACTION: Notice of intent (NOI) to prepare a draft environmental impact statement (DEIS); request for comments.

SUMMARY: The NMFS intends to prepare a DEIS to assess impacts on the natural and human environment of management measures proposed in its draft Comprehensive Ecosystem-Based Amendment 3 (CE-BA 3). CE-BA 3 would amend the Fishery Management Plan (FMP) for: the Snapper-Grouper Fishery of the South Atlantic Region (Snapper-Grouper FMP); Coral, Coral Reefs, Live/Hardbottom Habitats in the South Atlantic (Coral FMP); the FMP for Coastal Migratory Pelagic Resources (Coastal Migratory Pelagics FMP) in the Gulf of Mexico and Atlantic Region; the Dolphin and Wahoo Fishery of the Atlantic (Dolphin Wahoo FMP); the Golden Crab Fishery of the Atlantic (Golden Crab FMP); the Shrimp Fishery of the South Atlantic Region (Shrimp FMP); and Spiny Lobster in the Gulf of Mexico and the South Atlantic (Spiny Lobster FMP).

This NOI is intended to inform the public of the preparation of a DEIS in support of a comprehensive amendment to the South Atlantic Fishery Management Council's (Council) FMPs.

DATES: Written comments on the scope of the issues to be addressed in CE-BA 3 will be accepted until June 22, 2012, at 5 p.m.

ADDRESSES: You may submit comments on the NOI identified by NOAA-NMFS-2012-0109 by any of the following methods:

• Electronic submissions: Submit electronic comments via the Federal e-Rulemaking Portal: http://www.regulations.gov. Follow the instructions for submitting comments.

• Mail: Karla Gore, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments (enter N/A in the required field if you wish to remain anonymous).

To submit comments through the Federal e-Rulemaking Portal: http://www.regulations.gov, click on “submit a comment,” then enter “NOAA-NMFS-2012-0109” in the keyword search field and click on “search.” After you locate the document “Title,” click the “Submit a Comment” link in that row. This will display the comment web form. You can then enter your submitter information (unless you prefer to remain anonymous), and type your comment on the web form. You can also attach additional files (up to 10MB) in Microsoft Word, Excel, WordPerfect, or Adobe PDF file formats only.

To view posted comments during the comment period, enter “NOAA-NMFS-2012-0109” in the keyword search and click on “search.” Comments received through means not specified in this rule will not be considered.

FOR FURTHER INFORMATION CONTACT: Karla Gore, Southeast Regional Office, NMFS: telephone: 727-824-5305, email: Karla.Gore@noaa.gov.

SUPPLEMENTARY INFORMATION:

Background

The snapper-grouper, coral, coastal migratory pelagics, dolphin and wahoo, golden crab, shrimp and spiny lobster fisheries in the exclusive economic zone are managed under their respective FMPs. The FMPs were prepared by the Council and implemented by NMFS under the authority of the Magnuson-Stevens Fishery Conservation and Management Act by regulations at 50 CFR part 622.

Measures in CE-BA 3 would amend the Coral FMP to expand and modify the Stetson-Miami Terrace and Cape Lookout deepwater Coral Habitat Areas of Particular Concern (CHAPC) that were established through the implementation of CE-BA 1 in 2010. These CHAPCs were originally developed to protect known sensitive deepwater coral habitat. New information and research has identified additional areas of deepwater coral.

CE-BA 3 would amend the Snapper-Grouper FMP to modify the Oculina Habitat Area of Particular Concern (HAPC) established through Amendment 13A to the Snapper-Grouper FMP. CE-BA 3 would modify the northern and western boundaries of the present Oculina Bank HAPC based on research that has identified two newly discovered areas of high-relief Oculina coral mounds that lie outside of the current boundary.

CE-BA 3 would amend the Snapper-Grouper FMP to implement measures to reduce bycatch of speckled hind and warsaw grouper, which are undergoing overfishing. Amendment 17B to the Snapper-Grouper FMP, implemented a prohibition on the harvest of six deepwater snapper-grouper species (snowy grouper, blueline tilefish, yellowedge grouper, misty grouper, queen snapper, and silk snapper) in waters greater than 240 feet to reduce bycatch of speckled hind and warsaw grouper. However, there is now evidence that this prohibition is not effective at reducing bycatch of speckled hind and warsaw grouper, and different management measures are needed. As a result, Regulatory Amendment 11 to the Snapper Grouper FMP removed this harvest prohibition and the Council is considering more appropriate management measures to protect speckled hind and warsaw grouper in CE-BA 3. Options suggested thus far include modification to existing marine protected areas (MPAs) or the establishment of new MPAs.

CE-BA 3 also proposes changes to data reporting requirements in the Snapper-Grouper FMP, Coastal Migratory Pelagics FMP, Dolphin and Wahoo FMP, Golden Crab FMP, Shrimp FMP and Spiny Lobster FMP.

Public Hearings, Times, and Locations

Public hearings for the Comprehensive Ecosystem-Based Amendment 3 will be held in August 2012. Exact dates, times, and locations will be announced by the Council. The public will be informed, via a notification in the Federal Register, of future scoping meetings and public hearings for CE-BA 3. The meetings will be physically accessible to people with disabilities. Requests for information packets or for sign language interpretation or other auxiliary equipment should be directed to the Council (see FOR FURTHER INFORMATION CONTACT).

Authority: 16 U.S.C. 1801 et seq.

Dated: May 17, 2012.
Carrie Selberg,
Acting Director, Office of Sustainable Fisheries, National Marine Fisheries Service.

[FR Doc. 2012-12436 Filed 5-22-12; 8:45 am]

BILLING CODE 3510-22-P